DEPARTMENT OF THE INTERIOR

Bureau of Land Management

[LLNVS00000.LF2000000.HU0000 LFSPHM7D0000;MO# 4500063096]

Notice of Temporary Area Closure at the Red Rock Canyon National Conservation Area Due to Carpenter 1 Wildland Fire in Clark County, NV

AGENCY: Bureau of Land Management, Interior.

ACTION: Notice of temporary closure.

SUMMARY: Notice is hereby given that the Bureau of Land Management (BLM), as authorized under the provisions of the Federal Land Policy and Management Act of 1976 and pursuant to BLM regulations, is enacting a 5-year temporary closure to the public of 5,683.37 acres in Red Rock Canyon National Conservation Area (NCA) due to the Carpenter 1 Fire, which occurred in July 2013. The closure is needed to address public safety and adjoining private property due to the potential for future downstream flooding from loss of vegetation and top soil until the area is stabilized and rehabilitated.

DATES: The temporary restriction and closure of the described public use is in effect 30 days after September 24, 2014 for 5 years.

FOR FURTHER INFORMATION CONTACT: Lauren Brown, Weeds Management Specialist and ESR Coordinator, 702-515-5295, email lpbrown@blm.gov, or Mark Spencer, Field Manager, Red Rock/Sloan Field Office, 702-515-5351, email: m1spence@blm.gov. Persons who use a telecommunications device for the deaf (TDD) may call the Federal Information Relay Service (FIRS) at 1-800-877-8339 to contact the above individuals during normal business hours. The FIRS is available 24 hours a day, 7 days a week, to leave a message or question with the above individuals. You will receive a reply during normal business hours.

SUPPLEMENTARY INFORMATION: The closure area includes both burned and unburned areas, as well as closing Harris Springs Road to the general public beginning at the intersection of State Route 157 proceeding northward for approximately 5 miles to the U.S. Forest Service (USFS) boundary. The size of the temporary closure is due to heavy rains, flooding, washouts, soil loss, and debris flow that occurred after the fire, generating more extensive damage to the burned and adjoining unburned areas. Pursuant to 43 CFR 8364.1, the time frame for the 5-year temporary closure is needed due to the extensive burn area of the Carpenter 1 Fire and subsequent heavy flooding, soil erosion, and loss of habitat and vegetation that is impacting both burned and unburned areas. The Carpenter 1 Fire burned approximately 27,881 acres in the Mt. Charleston Area outside of Las Vegas, Nevada. The majority of the fire (26,939 acres) occurred on the Springs Mountains National Recreation Area of the Humbolt-Toiyabe National Forest, with the balance of the burn occurring on the Red Rock Canyon NCA (853 acres) and private land (89 acres).

Post-fire efforts proposed by the BLM over the 5-year period will optimize stabilization of soils and rehabilitation. The BLM Nevada Post-Fire Recovery Plan, Emergency Stabilization and Burned Area Rehabilitation (September 2013) identifies emergency stabilization and burned area issues that will be addressed by a number of treatments and monitoring actions during the closure period. The BLM will coordinate stabilization and rehabilitation efforts with the USFS, the Nevada Department of Wildlife, and the Clark County Department of Public Works.

The duration of the closure is also consistent with the USFS' temporary closure, which is for 5 years. The area affected by USFS' closure contains 5,683.37 acres in Clark County, Nevada.

The temporary closure order and information is posted at the BLM Southern Nevada District Office, and in areas off of State Route 157 and adjoining boundaries with the USFS. The public lands subject to the temporary closure are approximately 10 miles west of Las Vegas, NV, in the Harris Springs area of the Red Rock Canyon NCA, and are legally described as follows:

Mount Diablo Meridian, Nevada

T. 19 S., R58 E.,

Sec. 20, SW¼NW¼ and NW¼SW¼;

Sec. 22, SE¼SW¼, SW¼SE¼, and SE¼SE¼;

Sec. 23, S½SW¼;

Sec. 26, NW¼ and NW¼SW¼;

Sec. 27, N½, N½SW¼, SW¼SW¼, and N½SE¼;

Secs. 28 and 29;

Sec. 32;

Sec. 33, NW¼NE¼, NW¼, and W½SW¼;

T. 20 S., R57 E.,

Sec. 24, N½, N½SW¼, and N½SE¼;

T. 20 S., R58 E.,

Sec. 4, lot 4, SW¼NW¼, NW¼SW¼, and SW¼SW¼;

Sec. 5;

Sec. 8, NE¼, W½, and NW¼SE¼;

Sec. 9, NW¼NW¼;

Sec. 18, lots 1 and 4, SE¼SW¼ and SW¼SE¼;

Sec. 19, lots 1 thru 3, NE¼, NE¼NW¼, SE¼NW¼, and NE¼SW¼.

On December 17, 2013, the BLM signed a Decision Record to implement the temporary closure. The EA (DOI-BLM-NV-S020-2013-0012-EA) analyzed the alternatives to enact the temporary closure, and is available to the public on the District Web site at https://www.blm.gov/epl-front-office/eplanning/ projectSummary.do?methodName=renderDefaultProjectSummary&projectId=37606.

Motorized vehicle use on Harris Springs Road off of State Route 157 is closed to the public during this period. This temporary closure applies to the public and all motorized vehicles, excluding:

(1) Any emergency or law enforcement vehicle or personnel for emergency or administrative purposes;

(2) BLM/USFS/NDOW vehicles/personnel;

(3) Anyone who is expressly authorized in writing by the BLM Field Manager of the Red Rock/Sloan Field Office or the Fire Management Officer, Southern Nevada District;

(4) Clark County Department of Public Works; and

(5) Affected residents who have prior existing rights to access their property.

If satisfactory rehabilitation is achieved prior to September 30, 2019, the temporary closure will be lifted.

Penalties: Any person who fails to comply with the temporary closure order is subject to arrest and, upon conviction, may be fined not more than $1,000 and/or imprisonment for not more than 12 months.

Authority: 43 CFR 8364.1.

Mark R. Spencer,
Field Manager, Red Rock/Sloan Field Office.

[FR Doc. 2014-22717 Filed 9-23-14; 8:45 am]

BILLING CODE 4310-HC-P